FEDERAL RETIREMENT THRIFT INVESTMENT BOARD

Sunshine Act Meeting

DATE AND TIME: July 31, 2017. 1:00 p.m. 1700 K St NW., Washington, DC 20006

AGENDA: Federal Retirement Thrift Investment Board Member Meeting.

STATUS: Closed to the public.

MATTER TO BE CONSIDERED: Information covered under 5 U.S.C. 552b(c)(6) and (c)(9)(B).

CONTACT PERSON FOR MORE INFORMATION: Kimberly Weaver, Director, Office of External Affairs, (202) 942-1640.

Dated: July 28, 2017.
Megan Grumbine,
General Counsel, Federal Retirement Thrift Investment Board.

[FR Doc. 2017-16279 Filed 7-28-17; 4:15 pm]

BILLING CODE 6760-01-P